DEPARTMENT OF AGRICULTURE

Forest Service

Transfer of Administrative Jurisdiction: Santa Ana River Flood Control Project Interchange, San Bernardino National Forest, California

AGENCY: Forest Service, USDA.

ACTION: Notice.

SUMMARY: On July 12, 1999, and January 16, 2001, respectively, the Secretary of the Army and the Secretary of Agriculture signed a joint interchange order that authorizes the transfer of administrative jurisdiction from the Department of Agriculture to the Department of the Army for approximately 943 acres, consisting of 108 acres of fee lands and 835 acres of perpetual flowage easement rights, lying within the San Bernardino National Forest, San Bernardino County, California. Furthermore, the order transfers from the Department of the Army to the Department of Agriculture for inclusion in the San Bernardino National Forest approximately 773 acres lying within the San Bernardino National Forest, San Bernardino County, California. A copy of the joint order, as signed, is set out at the end of this notice.

DATES: This order is effective August 8, 2001. The 45-day Congressional oversight requirement of the Act of July 26, 1956 (70 Stat. 656; 16 U.S.C. 505a, 505b) has been met.

ADDRESSES: The joint interchange order signed by the Secretary of the Army and the Secretary of Agriculture and the accompanying exhibits, which contain maps showing the lands being conveyed and descriptions of the lands and interests being conveyed, are on file and available for public inspection in the Office of the Director, Lands Staff, 4th Floor-South, Sidney R. Yates Federal Building, Forest Service, USDA, 201 14th Street, SW, Washington, DC 20250, between the hours of 8:30 a.m. and 4:30 p.m. on business days. Those wishing to inspect the documents are encouraged to call ahead to (202) 205-1248 to facilitate entry into the building.

FOR FURTHER INFORMATION CONTACT: David M. Sherman, Lands Staff, Forest Service, USDA, P.O. Box 96090, Washington, DC 20090-6090, Telephone (202) 205-1248.

Dated: July 30, 2001.
Hilda Diaz-Soltero,
Associate Chief for Natural Resources.

[FR Doc. 01-19803 Filed 8-7-01; 8:45 am]

BILLING CODE 3410-11-P